NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on July 9-11, 2008, 11545 Rockville Pike, Rockville, Maryland. The date of this meeting was previously published in the Federal Register on Monday, October 22, 2007 (72 FR 59574).

Wednesday, July 9, 2008, Conference Room T-2B3, Two White Flint North, Rockville, Maryland

8:30 a.m.-8:35 a.m.: Opening Remarks by the ACRS Chairman (Open)—The ACRS Chairman will make opening remarks regarding the conduct of the meeting.

8:35 a.m.-10:30 a.m.: Stretch Power Uprate Application for Millstone Power Station Unit 3 (Open/Closed)—The Committee will hear presentations by and hold discussions with representatives of the NRC staff, Dominion Nuclear Connecticut, Inc., and its contractor Westinghouse Electric Company LLC regarding the proposed 7% stretch power uprate for Millstone Power Station Unit 3, and related matters.

10:45 a.m.-2:15 p.m.: Selected Chapters of the Safety Evaluation Report (SER) Associated with the Economic Simplified Boiling Water Reactor (ESBWR) Design Certification Application (Open/Closed)—The Committee will hear presentations by and hold discussions with representatives of the NRC staff and General Electric—Hitachi Nuclear Energy (GEH) regarding selected chapters of the NRC staff's SER with Open Items associated with the ESBWR design certification application.

2:30 p.m.-6 p.m.: Safeguards and Security Matters (Closed)—The Committee will hear presentations by and hold discussions with representatives of the NRC staff regarding the draft final/proposed rules and associated regulatory guidance in the area of safeguards and security.

6:15 p.m.-7:30 p.m.: Preparation of ACRS Reports (Open/Closed)—The Committee will prepare and discuss the proposed ACRS reports on Stretch Power Uprate Application for Millstone Power Station Unit 3, selected chapters of the SER associated with the ESBWR Design Certification Application, and Safeguards and Security Matters.

Thursday, July 10, 2008, Conference Room T-2B3, Two White Flint North, Rockville, Maryland

8:30 a.m.-8:35 a.m.: Opening Remarks by the ACRS Chairman (Open)—The ACRS Chairman will make opening remarks regarding the conduct of the meeting.

8:35 a.m.-10:30 a.m.: Status of NRC Staff Activities Associated with Seismic Design Issues at Nuclear Power Plants (Open)—The Committee will discuss with representatives of the NRC staff the 2008 seismic research program plan, the interim staff guidance on high frequency ground motion, the July 2007 Japan earthquake, and the status of resolution of Generic Safety Issue-199 (GSI-199).

10:45 a.m.-12:30 p.m.: Containment Overpressure Credit (Open/Closed)—The Committee will discuss with representatives of the NRC staff and Tennessee Valley Authority technical issues related to crediting of containment overpressure during design basis accidents and special events in support of the extended power uprate for Brown Ferry Units 1, 2, and 3.

1:30 p.m.-2:15 p.m.: Future Activities/Report of the Planning and Procedures Subcommittee (Open)—The Committee will discuss the recommendations of the Planning and Procedures Subcommittee regarding items proposed for consideration by the full Committee during future ACRS meetings, and report on matters related to the conduct of ACRS business, including anticipated workload and member assignments.

2:15 p.m.-2:30 p.m.: Reconciliation of ACRS Comments and Recommendations (Open)—The Committee will discuss the responses from the NRC Executive Director for Operations to comments and recommendations included in recent ACRS reports and letters.

2:45 p.m.-7:30 p.m.: Preparation of ACRS Report (Open)—The Committee will continue its discussion of a proposed ACRS report on the Stretch Power Uprate Application for Millstone Power Station, Unit 3.

Friday, July 11, 2008, Conference Room T-2B3, Two White Flint North, Rockville, Maryland

8:30 a.m.-1 p.m.: Preparation of ACRS Reports (Open/Closed)—The Committee will continue its discussion of a proposed ACRS report on the Stretch Power Uprate Application for Millstone Power Station, Unit 3.

1 p.m.-1:30 p.m.: Miscellaneous (Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Dr. Antonio Dias, Cognizant ACRS staff (301-415-6805), between 7:30 a.m. and 4 p.m. (ET). ACRS meeting agenda, meeting transcripts, and letter reports are available through the NRC Public Document Room at pdr@nrc.gov, or by calling the PDR at 1-800-397-4209, or from the Publicly Available Records System (PARS) component of NRC's document system (ADAMS), which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m. (ET), at least 10 days before the meeting to ensure the availability of this service. Individuals or organizations requesting this service will be responsible for telephone line charges and for providing the equipment and facilities that they use to establish the video teleconferencing link. The availability of video teleconferencing services is not guaranteed.

Dated: June 16, 2008.
Andrew L. Bates,
Advisory Committee Management Officer.

[FR Doc. E8-14000 Filed 6-19-08; 8:45 am]

BILLING CODE 7590-01-P